DEPARTMENT OF AGRICULTURE

Rural Utilities Service

Information Collection Activity; Comment Request

AGENCY: Rural Utilities Service, USDA.

ACTION: Notice and request for comments.

SUMMARY: In accordance with the Paperwork Reduction Act of 1995 (44 U.S.C. Chapter 35, as amended), the Rural Utilities Service (RUS) invites comments on the following information collection for which approval from the Office of Management and Budget (OMB) will be requested.

DATES: Comments on this notice must be received by April 22, 2014.

FOR FURTHER INFORMATION CONTACT: Michele L. Brooks, Director, Program Development and Regulatory Analysis, Rural Utilities Service, 1400 Independence Ave. SW., STOP 1522, Room 5162 South Building, Washington, DC 20250-1522. Telephone: (202) 690-1078, FAX: (202) 720-8435 or email: Michele.brooks@wdc.usda.gov.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities (see 5 CFR 1320.8(d)). This notice identifies an information collection that the Agency is submitting to OMB for extension.

Comments are invited on: (a) Whether the proposed collection of information is necessary for the proper performance of the functions of the Agency, including whether the information will have practical utility; (b) the accuracy of the Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to: Michele L. Brooks, Director, Program Development and Regulatory Analysis, Rural Utilities Service, U.S. Department of Agriculture, 1400 Independence Ave. SW., STOP 1522, Room 5162 South Building, Washington, DC 20250-1522. FAX: (202) 720-8435 or email: Michele.brooks@wdc.usda.gov.

Title: Public Television Station Digital Transition Grant Program.

OMB Control Number: 0572-0134.

Type of Request: Revision of a currently approved information collection.

Abstract: The Federal Communications Commission (FCC) required television broadcasters to have converted transmitters to broadcast digital signals by June 12, 2009. The FCC deadline did not apply to translators often used by rural stations serving small or isolated areas and some continue to broadcast in analog and have not completed the transition to digital. Public television stations rely on community and business financial support to operate and, in many rural areas the cost of the transition to digital broadcasting exceeds community resources. Since rural communities depend on public television stations for services ranging from educational course content in their schools to local news, weather, and agricultural reports, disruption of public television broadcasting would be detrimental.

Full digital transition requires installation of a new antenna, transmitter or translator, and new digital program management facilities consisting of processing and storage systems. Public television stations use a combination of transmitters and translators to serve the rural public and to perform program origination functions, digital cameras, editing and mastering systems are required. A new studio-to-tower site communications link may be required to transport the digital broadcast signal to each transmitter and translator. The capability to broadcast some programming in a high definition television format can require additional studio facilities.

In designing the competition for the distribution of grant funds, priority is given to public television stations serving areas most unable to fund digital transition without a grant. The largest sources of funding for public television stations are public membership and business contributions and less densely populated rural areas have a lower membership and fewer business per capita than urban and suburban areas. Therefore, rurality is a primary predictor of the need for grant funding for a public television station's digital transition. Some rural areas have economic needs that are higher than the national average, and public television stations covering these areas may have difficulty funding the digital transition. As a result, the consideration of the National School Lunch Program (NSLP) eligibility percentages for all school districts within the station coverage area is a secondary predictor of need for grant funding. Finally, because public television stations may face special difficulty accomplishing the transition, a third scoring factor for station hardship accounts for conditions that make these public television stations less likely to accomplish the digital transition without a grant.

The collection of information consists of the materials to file a grant application with the Agency, including forms, certifications and required documentation.

Estimate of Burden: Public reporting burden for this collection of information is estimated to average 23 hours per response.

Respondents: Not-for-profit institutions; State, Local or Tribal Government.

Estimated Number of Respondents: 30.

Estimated Number of Responses per Respondent: 1.26.

Estimated Total Annual Burden on Respondents: 714 hours.

Copies of this information collection can be obtained from Rebecca Hunt, Program Development and Regulatory Analysis, at (202) 205-3660, FAX: (202) 720-8435 or email: rebecca.hunt@wdc.usda.gov.

All responses to this notice will be summarized and included in the request for OMB approval. All comments will also become a matter of public record.

Dated: February 12, 2014.
John Charles Padalino,
Administrator, Rural Utilities Service.

[FR Doc. 2014-03674 Filed 2-20-14; 8:45 am]

BILLING CODE P